CONSUMER PRODUCT SAFETY COMMISSION

[Docket No. CPSC-2007-0035]

Privacy Act of 1974; Revision to System of Records

AGENCY: Consumer Product Safety Commission.

ACTION: Notice to revise a system of records.

SUMMARY: The Consumer Product Safety Commission (CPSC or Commission) is revising a system of records notice subject to the Privacy Act of 1974: CPSC-31, Contests, Challenges, and Awards Programs.

DATES: Comments must be received on or before June 6, 2014. The new system of records will become effective the day after the end of the comment period, unless comments are received that result in a contrary determination.

ADDRESSES: You may submit comments, identified by Docket No. CPSC-2007-0035, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2007-0035, into the “Search” box, and follow the prompts.

FOR FURTHER INFORMATION CONTACT: For further information contact: Mary James, Office of Information Technology, Consumer Product Safety Commission, 4330 East West Highway, Bethesda, MD 20814; (301) 504-7213, or by email to: mjames@cpsc.gov.

SUPPLEMENTARY INFORMATION: Under the Privacy Act of 1974 (Privacy Act), 5 U.S.C. 552a, the Commission is revising system of records notice CPSC-31, Contests, Challenges, and Awards Programs. The revision is necessary because existing CPSC-31 does not contemplate collection of certain information CPSC intends to collect when the Agency administers contests for minor children. The attached notice revises CPSC-31 by clarifying that when CPSC administers contests for minor children CPSC will collect contact information from the minor's parents, including name, mailing address (including city and state), telephone number and email address. CPSC also will collect the minor's name, grade in school and state of residence. CPSC will continue to collect social security numbers from the contest winners to process payments.

This amendment seeks to specify the information collection required to administer contests, challenges, and awards. In contests aimed at participants who are minors, CPSC plans to collect the following information about the child: Name, grade in school, state of residence. CPSC also plans to collect the following information about the child's parent or guardian: name, mailing address (including city and state), telephone number and email address. CPSC will continue to collect social security numbers from contest winners to process and report payments or other prize awards, as the case may be.

CPSC published a Privacy Impact Assessment (PIA) for Contests, Challenges, and Awards on CPSC's Web site (http://www.cpsc.gov/About-CPSC/Agency-Reports/PIA-Reports/) and will publish PIAs addressing future contests on this Web site. The PIAs provides additional background information and context for the system of records, including specific information on measures taken by CPSC to protect the privacy of persons whose information is contained in the system of records.

The proposed amendment is not within the purview of subsection (r) of the Privacy Act of 1974 (5 U.S.C. 552a), as amended, and does not require submission of a new or altered system report.

Todd A. Stevenson,
Secretary, Consumer Product Safety Commission.

System name:

CPSC-31, Contests, Challenges, and Awards Programs

System location:

Office of Communications, Consumer Product Safety Commission, 4330 East West Highway, Bethesda, MD 20814.

Categories of individuals covered by the system:

Members of the public, including individuals who are minors and/or the parents or guardians of minors, and companies and organizations.

Categories of records in the system:

Information in the records may include the individuals' names, telephone numbers, email addresses, ages, grade levels in school, street addresses, company names, organization's names, posters, videos, products, or other submissions made by individuals for contests, challenges or awards. For contests where minors are the entrants, CPSC may collect the above-listed information for the parents or guardians of the contest entrants. Contest entrants who win prizes from CPSC are required to provide their social security numbers so that monetary payments can be processed by the U.S. government and the value of any prize can be reported to the U.S. government.

Authority for maintenance of the system:

15 U.S.C. 205(9b), OMB Memorandum on the Use of Challenges and Prizes to Promote Open Government, M-10-11, March 8, 2010.

Purpose(s):

CPSC hosts contests, challenges, and award programs to educate the public, including adults and children, about product safety to prevent injuries and deaths associated with product hazards, and to identify and honor people and organizations that have made significant contributions to consumer product safety.

Routine uses of records maintained in the system, including categories of users and the purposes of such uses:

Records are maintained for the contest, challenge, or award program for purposes of evaluating contest submissions, contacting winners and finalists, awarding prizes and reporting prize awards as may be required by law. Categories of users include CPSC employees, contractors, and Web sites hosting challenges for CPSC.

Disclosure may be made to appropriate agencies, entities, and persons when: (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist with the CPSC's efforts to respond to the suspected or confirmed compromise and prevent, minimize, or remedy such harm.

Policies and practices for storing, retrieving, accessing, retaining, and disposing of records in the system:

Once the contest or challenge is completed, CPSC's Office of the Secretariat maintains for two years hard or electronic copies of posters, videos, information/photos about products that may contain contact information for the contest, challenge, or award program participants. After that time, the copies are destroyed.

Storage:

Posters, videos, or other submissions for contests, challenges, or awards may be stored by CPSC for use by the agency, for use in agency displays, or for disclosure in response to requests under the Freedom of Information Act. Posters, videos, or other submissions are stored in locked file cabinets in the Office of the Secretariat or in secure electronic format.

Retrievability:

Contest submissions (including posters and videos) become the property of CPSC, according to the agency's published contest rules and are not returned to the submitter. Access to the submissions may be requested to the Office of the Secretariat under the Freedom of Information Act.

Safeguards:

Posters, videos, or other submissions are kept by CPSC's Office of the Secretariat in locked file cabinets or in securer electronic format.

Retention and disposal:

Posters, videos, or other submissions are disposed of after two years by CPSC's Office of the Secretariat.

System manager(s) and address:

Office of Communications, 4330 East West Highway, Bethesda, MD 20814.

Notification procedure:

Freedom of Information/Privacy Act Officer, Office of the Secretariat, Consumer Product Safety Commission 4330 East West Highway, Bethesda, MD 20814.

Record access procedures:

Same as notification.

Contesting record procedures:

Same as notification.

Record source categories:

The information is provided by the contest, challenge, or award program participant, the participant's parent or guardian, or the participant's company.

Dated: May 1, 2014.
Todd A. Stevenson,
Secretariat, Consumer Product Safety Commission.

[FR Doc. 2014-10393 Filed 5-6-14; 8:45 am]

BILLING CODE 6355-01-P